DEPARTMENT OF TRANSPORTATION

Federal Highway Administration

Notice of Final Federal Agency Actions on Proposed Highway in California

AGENCY: Federal Highway Administration (FHWA), DOT.

ACTION: Notice of limitation on claims for judicial review of actions by FHWA and other Federal agencies.

SUMMARY: This notice announces actions taken by FHWA and other Federal agencies that are final within the meaning of 23 U.S.C. 139(l)(1). The actions relate to a proposed highway project on Interstate 5 (I-5) from postmile R28.4 to R55.4 in the County of San Diego, State of California. Those actions grant licenses, permits, and approvals for the project.

DATES: By this notice, the FHWA is advising the public of final agency actions subject to 23 U.S.C. 139(l)(1). A claim seeking judicial review of the Federal agency actions on the highway project will be barred unless the claim is filed on or before July 13, 2015. If the Federal law that authorizes judicial review of a claim provides a time period of less than 150 days for filing such claim, then that shorter time period still applies.

FOR FURTHER INFORMATION CONTACT: For Caltrans: Mr. Bruce April, Deputy District Director, Division of Environmental Analysis, California Department of Transportation, 4050 Taylor Street, MS 242, San Diego, CA 92110, Regular Office Hours: 8:00 a.m. to 5:00 p.m., Telephone number (619) 688-0100, email Bruce.April@dot.ca.gov. For FHWA: Mr. Jacob Waclaw, Senior Transportation Engineer, 888 S. Figueroa, Ste 750, Los Angeles, CA 90017 Regular Office Hours: 6:00 a.m. to 4:00 p.m., Telephone number (213) 894-6697, email Jacob.Waclaw@dot.gov.

SUPPLEMENTARY INFORMATION: Notice is hereby given that FHWA and other Federal agencies have taken final agency actions subject to 23 U.S.C. 139(l)(1) by issuing licenses, permits, and approvals for the Interstate 5 North Coast Corridor Project in the State of California: The project is located in San Diego County along Interstate 5 (I-5) near La Jolla Village Drive in San Diego to Harbor Drive in Oceanside/Camp Pendleton, extending approximately 27 miles (postmile R28.4 to R55.4). The proposed project includes improvements to maintain or improve the existing and future traffic operations on the I-5 freeway. The preferred alternative consists of two high-occupancy vehicle (HOV)/Managed Lanes in each direction, separated by a painted buffer from the existing general purpose lanes in each direction. The design of the proposed bridge crossings of the lagoons have been modified to enhance lagoon function, and a number of natural and human community enhancements were developed for inclusion in the project. In addition, the project includes: Auxiliary lanes; soundwalls; braided ramps; two Direct Access Ramps; visual and community enhancements; ramp improvements; and appurtenant structures, including signage. The actions by the Federal agencies, and the laws under which such actions were taken, are described in the Final Environmental Statement (FEIS) for the project, approved on October 23, 2013, in the FHWA Record of Decision (ROD) issued on January 22, 2015, and in other documents in the FHWA project records. The FEIS, ROD, and other project records are available by contacting Caltrans at the addresses provided above. The Final FEIS and ROD can be viewed and downloaded from the project Web site at http://www.dot.ca.gov/dist11/envir.htm. This notice applies to all Federal agency decisions as of the issuance date of this notice and all laws under which such actions were taken, including but not limited to:

1. General: National Environmental Policy Act [42 U.S.C. 4321-4347]; Federal-Aid Highway Act [23 U.S.C. 109].

2. Air: Clean Air Act, as amended [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544]; Fish and Wildlife Coordination Act [16 U.S.C. 661-667(e)]; Magnuson-Stevenson Fishery Conservation and Management Act of 1976, as amended [16 U.S.C. 1801 et seq.]; Migratory Bird Treaty Act, 16 U.S.C. 703-712.

5. Historic and Cultural Resources: Section 106 of the National Historic Preservation Act of 1966, as amended [16 U.S.C. 470f]; Archaeological Resources Protection Act of 1977 [16 U.S.C. 470aa-470mm]; Archaeological and Historic Preservation Act [16 U.S.C. 469-469c-2]; Native American Grave Protection and Repatriation Act [25 U.S.C. 3001-3013].

6. Social and Economic: Civil Rights Act of 1964 [42 U.S.C. 2000(d)-2000(d)(1)]; American Indian Religious Freedom Act [42 U.S.C. 1996]; Farmland Protection Policy Act [7 U.S.C. 4201-4209]; the Uniform Relocation Assistance and Real Property Acquisition Policies Act of 1970, as amended [42 U.S.C. 61].

7. Wetlands and Water Resources: Clean Water Act, 33 U.S.C. 1251-1377 [Section 404, Section 401, Section 319]; Land and Water Conservation Fund Act [16 U.S.C. 460l-4-460l-11]; Safe Drinking Water Act [42 U.S.C. 300f et seq.]; Rivers and Harbors Act of 1899 [33 U.S.C. 401-406]; TEA-21 Wetlands Mitigation [23 U.S.C. 103(b)(6)(m), 133(b)(11)]; Flood Disaster Protection Act [42 U.S.C. 4001-4129].

8. Hazardous Materials: Comprehensive Environmental Response, Compensation, and Liability Act [42 U.S.C. 9601-9675]; Superfund Amendments and Reauthorization Act of 1986 [PL 99-499]; Resource Conservation and Recovery Act [42 U.S.C. 6901-6992(k)].

Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1)

Dated: January 27, 2015.
Jermaine Hannon,
Director, Program Development, Federal Highway Administration, Sacramento, California.

[FR Doc. 2015-02668 Filed 2-10-15; 8:45 am]

BILLING CODE 4910-RY-P